DEPARTMENT OF VETERANS AFFAIRS

[OMB Control No. 2900-0764]

Agency Information Collection Activity Under OMB Review: Survey of Healthcare Experiences of Patients—Dental Care Patient Satisfaction Survey (DPSS)

AGENCY: Veterans Health Administration, Department of Veterans Affairs.

ACTION: Notice.

SUMMARY: In compliance with the Paperwork Reduction Act (PRA) of 1995, this notice announces that the Veterans Health Administration (VHA), Department of Veterans Affairs (VA), will submit the collection of information abstracted below to the Office of Management and Budget (OMB) for review and comment. The PRA submission describes the nature of the information collection and its expected cost and burden, and it includes the actual data collection instrument.

DATES: Comments and recommendations for the proposed information collection should be sent by February 27, 2025.

ADDRESSES: To submit comments and recommendations for the proposed information collection, please type the following link into your browser: www.reginfo.gov/public/do/PRAMain, select “Currently under Review—Open for Public Comments,” then search the list for the information collection by Title or “OMB Control No. 2900-0764.”

FOR FURTHER INFORMATION CONTACT: VA PRA information: Maribel Aponte, 202-461-8900, vacopaperworkreduact@va.gov.

SUPPLEMENTARY INFORMATION:

Title: Survey of Healthcare Experiences of Patients—Dental Care Patient Satisfaction Survey (DPSS) (VA Form 10-10070).

OMB Control Number: 2900-0764. https://www.reginfo.gov/public/do/PRASearch.

Type of Review: Revision of a currently approved collection.

Abstract: The mission of the Veterans Health Administration (VHA) is to provide high quality medical and dental care to eligible veterans. Executive Order 12862, dated September 11, 1993, calls for the establishment and implementation of customer service standards, and for agencies to “survey customers to determine the kind and quality of services they want and their level of satisfaction with current services.” The overall purpose of the Dental Care Patient Satisfaction Survey (DPSS) is to systematically obtain information from patients, which can be used to identify problems or complaints that need attention and to improve the quality of dental health care services.

This information will be collected through the DPSS, VA Form 10-10070, and may be submitted either on paper or electronically by Veterans. The DPSS questions have minor changes, to include updates to the Race and Ethnicity data collection fields to reflect current requirements. VHA also is prepared to implement an additional mode of collecting the information utilizing a web-based access system for Veterans to submit the survey responses. Information obtained from this dental survey will be made readily available to VA Central Office (VACO), Veterans Integrated Service Network (VISN), VHA field staff, and stakeholders as part of the Network Performance Report and via the VA Intranet. This data will be used to demonstrate that VA is providing timely, high quality dental health care services to patients and to measure improvement toward performance goals.

An agency may not conduct or sponsor, and a person is not required to respond to a collection of information unless it displays a currently valid OMB control number. The Federal Register Notice with a 60-day comment period soliciting comments on this collection of information was published at 89 FR 92740, November 22, 2024.

Affected Public: Individuals or Households.

Estimated Annual Burden: 12,600 hours.

Estimated Average Burden per Respondent: 15 minutes.

Frequency of Response: Once annually.

Estimated Number of Respondents: 50,400.

Authority: 44 U.S.C. 3501 et seq.

Maribel Aponte,
VA PRA Clearance Officer, Office of Enterprise and Integration, Data Governance Analytics, Department of Veterans Affairs.

[FR Doc. 2025-01805 Filed 1-27-25; 8:45 am]

BILLING CODE 8320-01-P